DEPARTMENT OF STATE

[Public Notice 4977]

Bureau of Educational and Cultural Affairs (ECA) Request for Grant Proposals: Partnerships for Learning (P4L) Thematic Youth Projects Initiative: Linking Individuals, Knowledge and Culture (LINC)

Announcement Type: New Grant.

Funding Opportunity Number: ECA/PE/C/PY-05-24.

Catalog of Federal Domestic Assistance Number: 00.000.

Key Dates:

Application Deadline: March 24, 2005.

Executive Summary: The Youth Programs Division, Office of Citizen Exchanges of the Bureau of Educational and Cultural Affairs, announces an open competition for projects under the P4L Thematic Youth Projects Initiative. Public and private non-profit organizations meeting the provisions described in Internal Revenue Code section 26 U.S.C. 501(c)(3) may submit proposals to implement projects for youth in the United States and countries with significant Muslim populations. These projects will involve an academic and cultural exploration of one of three themes and will promote mutual understanding through reciprocal exchanges of three- to six-weeks each.

I. Funding Opportunity Description

Authority: Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Purpose: The Bureau of Educational and Cultural Affairs (ECA) and the Public Affairs Sections (PAS) of U.S. missions overseas are supporting the participation of youth in intensive, substantive exchanges under the P4L Thematic Youth Projects Initiative. This initiative encompasses cultural and civic exchanges as vehicles through which the successor generation can re-engage in a dialogue for greater understanding.

The Linking Individuals, Knowledge, and Culture (LINC) program is designed to foster mutual understanding between youth participants (ages 15-17) from the United States and from countries with significant Muslim populations through a three to six week reciprocal exchange program that will enhance the participants' knowledge of their host country's history, culture, and system of government. Projects will also be designed to foster dialogue and joint activities around one of three themes: (1) Religion, community, education, and political process; (2) governance, accountability, and transparency in civil society; or (3) conflict prevention and management. Through these people-to-people exchanges, the Bureau seeks to break down stereotypes that divide peoples, promote good governance, contribute to conflict prevention and management, and build respect for cultural expression and identity in a world that is experiencing rapid globalization.

The overarching goals of the P4L Thematic Youth Projects Initiative are:

1. To develop a sense of civic responsibility and commitment to enhancing cultural bridges among youth;

2. To promote mutual understanding between the United States and the people of other countries; and

3. To foster personal and institutional ties between participants and partner countries.

Each theme also has specific aims, as outlined below. Applicants should identify their own specific objectives and measurable outcomes based on these program goals and the project specifications provided in this solicitation.

ECA will accept proposals for either multiple-country or single-country projects. Applicants should present a rationale for a multiple-country application, and describe how participants from the various countries will interact with one another. Each application will be judged independently and proposals for a particular country or region will be compared only to proposals for the same country or region. Proposals that target countries/regions or themes not listed below will be deemed technically ineligible. No guarantee is made or implied that grants will be awarded in all themes and for all countries listed.

To qualify for these grants, a partner country must have a significant Muslim population (though the beneficiaries of the grant are in no way limited to the Muslim population) and must be in the following regions: The Middle East/North Africa, Sub-Saharan Africa, South Asia, and Southeast Asia; the only country in Europe/Eurasia that is eligible is Turkey. Programs with Afghanistan, Pakistan, and Iraq are restricted to one-way exchange visits to the United States. Organizations should consider U.S. Department of State travel advisories when selecting countries with which they would like to work.

Grants will support the travel of foreign students to the United States and Americans to the overseas partner countries. The minimum duration of stay is three weeks, but longer stays (up to six weeks) are possible under these grants. During the exchanges, the students will participate in activities designed to teach them about community life, citizen participation, and the culture of the host country. The program activities will introduce the visitors to the community—its leaders and institutions and the ways citizens participate in local government and the resolution of societal problems—and will include educational excursions that serve to enhance the visitors” understanding of the history, culture, political institutions, ethnic diversity, and environment of the region. ECA requires participation in a community service project. Participants should also have opportunities to give presentations on their countries and cultures in community forums. Homestays will be the norm, although participants may spend a modest portion of their time as a group in a hotel or dormitory setting. Note: Delegations should have adults travel with them. These adults may be project staff, teachers, or chaperones. Applicants must demonstrate their capacity for conducting projects of this nature, focusing on three areas of competency: (1) Provision of programs aimed at achieving the goals and themes outlined in this document; (2) age-appropriate programming for the target audience; and (3) experience in working with the proposed partner country or countries. U.S. applicant organizations need to have the necessary capacity in the partner country, with either its own offices or a partner institution. The requisite capacity overseas includes the ability to recruit and select participants, organize substantive exchange activities for the American participants, provide follow-on activities, and handle the logistical and financial arrangements.

Themes: Applicants should select one of these themes for its program offering. Woven throughout the program activities should be guidance and training that help the youth participants develop leadership skills including, for example, influential public speaking, team-building, critical thinking, and goal-setting, so that they are prepared to take action with what they have learned.

(1) Religion, Community, Education, and Political Process: ECA welcomes projects that will promote understanding of the role of religion and education in shaping community and political life in the United States and in participating countries. Proposed programs will promote greater communication among religious groups, students, and educators and will increase the participants' understanding of how community members and leaders interact in and influence society.

Programs should explore how religion and education can encourage openness, tolerance, respect, constructive dialogue, public service, and other ways to respect diversity while encouraging different communities to work together.

(2) Governance, Accountability, and Transparency in Civil Society: ECA welcomes proposals that will explore the issues of transparency, citizen involvement, and effective management in government and demonstrate how this can benefit government leaders, non-governmental entities, and individual citizens and promote economic wellbeing. Proposed programs will promote a respect for governance that is transparent and responsive to citizens' concerns and will increase understanding of ways that citizens can improve governance, fight corruption, and ensure accountability.

Projects should demonstrate for youth the principles of fair and transparent governance and should promote dialogue among youth on this theme. Projects must be culturally sensitive and address specific needs of the partner country or countries. Individual projects might have the young participants explore ways that a country's government, media, and NGOs can encourage and support the involvement of its citizenry, increase citizen trust, and expand the democratic process.

(3) Conflict Prevention and Management: Projects for this theme should educate youth about ways to prevent, manage, and resolve conflict. Proposed projects will help participants explore effective approaches for preventing and mitigating conflict between and within communities and will increase their understanding of the values underlying different conflict prevention and management techniques.

Proposals must demonstrate strong expertise in the target country and local community(ies) to address effectively the sensitive and competing interests of target populations. Applicants should demonstrate their knowledge of the community or groups experiencing conflict (ethnic, religious, border issues, environmental vs. business disputes, etc.) or that have the potential for conflict, and proposal narratives should outline specifically how the project will introduce dialogue and a serious exploration of conflict management approaches.

Guidelines: Grant periods should begin on or about July 1, 2005. The grant period may be between 12 and 18 months in duration.

The responsibilities of the grant recipient for each project will be:

(1) Recruitment and Selection

(a) Conduct an open, merit-based competition for exchange participants. The grantee organization and its overseas partner(s) will recruit, screen, and select the participants, in consultation with the Public Affairs Section (PAS) of American embassies or other USG representative offices overseas, with clearly identified criteria for the selection and a formal process. Students must be 15, 16, or 17 years of age at the time of the exchange, and should have at least one year of high school remaining after the exchange.

(b) Develop plans for outreach and recruitment of both students that will generate a strong pool of qualified candidates representing ethnic and socio-economic groups and geographic areas;

(c) Develop student application forms and an interview protocol, in consultation with ECA and our overseas representatives;

(d) Administer an effective English language screening process;

(e) Adult participants (such as teacher or community leaders who work with youth) may be selected to accompany the students on the exchange. We encourage the selection of adults who can contribute to the project theme and activities. We discourage allowing parents of exchange students to travel with them.

(f) Recommend the final participants and alternates (No invitations may be issued without ECA and/or PAS clearance).

(2) Preparation

(a) Contact participants before the program to provide them with program information, pre-departure materials, and to gather information about their specific interests;

(b) Facilitate the visa process, working with ECA and PAS;

(c) Conduct a pre-departure orientation for participants, including general and program-specific information;

(d) Make all round-trip international (complying with the Fly America Act) and domestic travel arrangements for the participants.

(3) Exchange Activities

(a) Design, plan, and implement an intensive and substantive three- to six-week long program on the stated themes. Exchange activities must promote program goals. Activities may be school- or community-based, as appropriate to the project.

(b) Recruit the participation of schools, volunteer and service organizations, local businesses, and local/state government agencies by providing a clear, written statement of program objectives, philosophy, and procedures;

(c) Recruit, screen and select local host families to offer homestays (lodging and meals) to the participants during their stay in the host community(ies) and to make other housing arrangements as needed;

(d) Orient host institutions, staff, and families to the goals of the program and to the cultures and sensitivities of the visitors;

(e) Arrange appropriate community, cultural, social, and civic activities, and make provisions for religious observance;

(f) Engage both foreign and U.S. participants in at least one community service activity (e.g., visit to a food bank, a park clean-up) during their exchanges. The program should provide context for the participants—identifying community needs, volunteerism, charitable giving, etc.—and a debriefing so that the service activity is not an isolated event and helps participants see how they would apply the experience at home.

(g) Provide day-to-day monitoring of the program, preventing and dealing with any misunderstandings or adjustment issues that may arise;

(h) Provide a closing session to summarize the project activities, prepare participants for their return home, and to plan for the future.

(4) Follow-on Activities

(a) Conduct follow-on activities with program alumni, such as seminars and other gatherings and the provision of materials, to reinforce values and skills imparted during the exchange program and to help them apply what they have learned to serve their schools and communities;

(b) Applicants may present creative and effective ways to address the project themes, for both program participants and their peers, as a means to amplify the program impact. Follow-on activities should be funded by both the Bureau grant and other non-Bureau sources.

(5) Work in consultation with ECA and PAS in the implementation of the program, provide timely reporting of progress to ECA and PAS, and comply with financial and program reporting requirements;

(6) Manage all financial aspects of the program, including stipend disbursements to the participants and management of sub-grant relationships with partner organizations;

(7) Design and implement an evaluation plan that assesses the impact of the program (See section IV.3d.3).

Proposal Contents: In the 20 page, one-sided, double-spaced narrative, please describe the proposed project in detail, including the themes, guidelines, and responsibilities outlined above. We recommend using the following outline to organize your narrative. Refer to the proposal review criteria in this document for further guidance.

(1) Vision.

(a) Statement of the applicant's objectives as they relate to the Department's goals.

(b) Measurable outcomes.

(2) Country selection—Provide an explanation for the selection of countries for inclusion in this program.

(3) Program Activities—Describe the recruitment, selection, orientation, and exchanges (thematic and academic elements, cultural activities, participant monitoring, logistics). Include a sample itinerary.

(4) Diversity—Describe how various aspects of the program (selection, exchange activities, etc.) will promote an understanding of geographic, ethnic, and socioeconomic diversity in the U.S. and the partner countries.

(5) Follow-on Activities—Describe programming provided for exchange alumni.

(6) Multiplier effect—Describe how the program design will ensure that the effects of the exchange activities extend to individuals beyond those who travel.

(7) Program Evaluation Plan—Describe the design and methodology.

(8) Organization Capacity and Program Management—Describe the organization and program staffing (identify individuals and their responsibilities, both in the U.S. and overseas), structure, and resources. Indicate plan for working with ECA and PAS.

(9) Work Plan/Time Frame.

Please include any attachments in Tab E of your proposal. Limit the attachments to those essential for completing an understanding of the proposal.

Programs must comply with J-1 visa regulations. Please refer to the Solicitation Package for further information.

II. Award Information

Type of Award: Grant Agreement.

Fiscal Year Funds: 2005.

Approximate Total Funding: $1,150,000.

Approximate Number of Awards: 5-10.

Floor of Award Range: $50,000.

Ceiling of Award Range: $250,000.

Anticipated Award Date: July 1, 2005.

Anticipated Project Completion Date: 12-18 months after start date, to be specified by applicant based on project plan.

Additional Information: Pending successful implementation of the projects and the availability of funds in subsequent fiscal years, ECA reserves the right to renew grants for up to two additional fiscal years before openly competing grants under this program again.

III. Eligibility Information

III.1. Eligible Applicants

Applications may be submitted by public and private non-profit organizations meeting the provisions described in Internal Revenue Code section 26 U.S.C. 501(c)(3).

III.2. Cost Sharing or Matching Funds

There is no minimum or maximum percentage required for this competition. However, the Bureau encourages applicants to provide maximum levels of cost sharing and funding in support of its programs.

When cost sharing is offered, it is understood and agreed that the applicant must provide the amount of cost sharing as stipulated in its proposal and later included in an approved grant agreement. Cost sharing may be in the form of allowable direct or indirect costs. For accountability, you must maintain written records to support all costs that are claimed as your contribution, as well as costs to be paid by the Federal government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements

Grants awarded to eligible organizations with less than four years of experience in conducting international exchange programs will be limited to $60,000.

IV. Application and Submission Information

Note: Please read the complete Federal Register announcement before sending inquiries or submitting proposals. Once the RFGP deadline has passed, Bureau staff may not discuss this competition with applicants until the proposal review process has been completed.

IV.1. Contact Information To Request an Application Package

Please contact the Youth Programs Division, ECA/PE/C/PY, U.S. Department of State, SA-44, 301 4th Street, SW., Room 568, Washington, DC 20547, (202) 203-7502, Fax (202) 203-7529, E-mail NowlinJR@state.gov to request a Solicitation Package. Please refer to the Program Title and the Funding Opportunity Number (ECA/PE/C/PY-05-24) located at the top of this announcement when making your request.

The Solicitation Package contains the Proposal Submission Instruction (PSI) document, which consists of required application forms, and standard guidelines for proposal preparation.

Please specify Bureau Program Officer Carolyn Lantz and refer to the Funding Opportunity Number located at the top of this announcement on all other inquiries and correspondence.

IV.2. To Download a Solicitation Package Via Internet

The entire Solicitation Package may be downloaded from the Bureau's Web site at http://exchanges.state.gov/education/rfgps/menu.htm. Please read all information before downloading.

IV.3. Content and Form of Submission

Applicants must follow all instructions in the Solicitation Package. The original and eight copies of the application should be sent per the instructions under IV.3e. “Submission Dates and Times section” below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 form that is part of the formal application package.

IV.3b. All proposals must contain an executive summary, proposal narrative and budget.

Please refer to the solicitation package. It contains the mandatory Proposal Submission Instructions (PSI) document and the Project Objectives, Goals and Implementation (POGI) document for additional formatting and technical requirements.

IV.3c. You must have nonprofit status with the IRS at the time of application. If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1. Adherence To All Regulations Governing the J Visa. The Office of Citizen Exchanges of the Bureau of Educational and Cultural Affairs is the official program sponsor of the exchange program covered by this RFGP, and an employee of the Bureau will be the “Responsible Officer” for the program under the terms of 22 CFR part 62, which covers the administration of the Exchange Visitor Program (J visa program). Under the terms of 22 CFR part 62, organizations receiving grants under this RFGP will be third parties “cooperating with or assisting the sponsor in the conduct of the sponsor's program.” The actions of grantee program organizations shall be “imputed to the sponsor in evaluating the sponsor's compliance with” 22 CFR part 62. Therefore, the Bureau expects that any organization receiving a grant under this competition will render all assistance necessary to enable the Bureau to fully comply with 22 CFR part 62 et seq.

The Bureau of Educational and Cultural Affairs places great emphasis on the secure and proper administration of Exchange Visitor (J visa) Programs and adherence by grantee program organizations and program participants to all regulations governing the J visa program status. Therefore, proposals should explicitly state in writing that the applicant is prepared to assist the Bureau in meeting all requirements governing the administration of Exchange Visitor Programs as set forth in 22 CFR part 62. If your organization has experience as a designated Exchange Visitor Program Sponsor, the applicant should discuss their record of compliance with 22 CFR part 62 et seq., including the oversight of their Responsible Officers and Alternate Responsible Officers, screening and selection of program participants, provision of pre-arrival information and orientation to participants, monitoring of participants, proper maintenance and security of forms, record-keeping, reporting and other requirements.

The Office of Citizen Exchanges of ECA will be responsible for issuing DS-2019 forms to participants in this program. A copy of the complete regulations governing the administration of Exchange Visitor (J) programs is available at http://exchanges.state.gov or from: United States Department of State, Office of Exchange Coordination and Designation, ECA/EC/ECD-SA-44, Room 734, 301 4th Street, SW., Washington, DC 20547, telephone: (202) 401-9810, FAX: (202) 401-9809.

IV.3d.2. Diversity, Freedom and Democracy Guidelines. Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the ‘Support for Diversity' section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3. Program Monitoring and Evaluation. Proposals must include a plan to monitor and evaluate the project's success, both as the activities unfold and at the end of the program. The Bureau recommends that your proposal include a draft survey questionnaire or other technique plus a description of a methodology to use to link outcomes to original project objectives. The Bureau expects that the grantee will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Grantees will be required to provide reports analyzing their evaluation findings to the Bureau in their regular program reports. All data collected, including survey responses and contact information, must be maintained for a minimum of three years and provided to the Bureau upon request.

IV.3e. Budget Guidelines. Please take the following information into consideration when preparing your budget.

IV.3e.1. Applicants must submit a comprehensive budget for the entire program. Grant requests must not be less than $50,000 nor greater than $250,000. Eligible organizations with less than four years of experience in conducting international exchange programs will be limited to a grant maximum of $60,000. There are no specific country allocations. The Bureau anticipates awarding multiple grants; the exact number of grants will be based on the number and quality of the submitted proposals. The Bureau reserves the right to reduce, revise, or increase proposal budgets in accordance with the needs of the program and the availability of funds. Proposal budgets must include a summary budget as well as breakdowns reflecting both administrative and program budgets. Applicants may provide separate sub-budgets for each program component, phase, location, or activity to provide clarification.

Suggested program costs include, but are not limited to, the following:

○ Staff travel.

○ Participant travel (international, domestic, local ground transportation).

○ Orientation.

○ Cultural activities.

○ Food and lodging.

○ Follow-on activities.

○ Evaluation.

○ Stipends or allowances.

○ Justifiable expenses directly related to program activities.

Consultants may be used to provide specialized expertise or to make presentations. Honoraria should not exceed $250 per day. Organizations are encouraged to cost-share any rates that exceed that amount.

Please note that there are no fees for the J-1 visas that foreign participants will use to enter the United States; there may be visa fees for the U.S. travelers. Applicants should budget for travel to the nearest U.S. embassy or consulate for visa interviews.

Exchange participants will be enrolled in the Bureau's Accident and Sickness Program for Exchanges (ASPE). Applicants need not include travel insurance costs in their budgets.

While there is no rigid ratio of administrative to program costs, the Bureau urges applicants to keep administrative costs as low and reasonable as possible. Proposals should show strong administrative cost sharing contributions from the applicant, the in-country partner, and other sources.

Please refer to the PSI for allowable costs and complete budget guidelines and formatting instructions.

IV.3f. Submission Dates and Times: Application Deadline Date: Thursday, March 24, 2005.

Explanation of Deadlines: In light of recent events and heightened security measures, proposal submissions must be sent via a nationally recognized overnight delivery service (i.e., DHL, Federal Express, UPS, Airborne Express, or U.S. Postal Service Express Overnight Mail, etc.) and be shipped no later than the above deadline. The delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. It is each applicant's responsibility to ensure that each package is marked with a legible tracking number and to monitor/confirm delivery to ECA via the Internet. ECA will not notify you upon receipt of application. Delivery of proposal packages may not be made via local courier service or in person for this competition. Faxed documents will not be accepted at any time. Only proposals submitted as stated above will be considered. Applications may not be submitted electronically at this time.

Applicants must follow all instructions in the Solicitation Package.

Important note: When preparing your submission please make sure to include one extra copy of the completed SF-424 form and place it in an envelope addressed to “ECA/EX/PM”.

The original, one fully-tabbed copy, and seven copies of the application with Tabs A-E (for a total of 9 copies, bound with large binder clips) should be sent to: U.S. Department of State, SA-44, Bureau of Educational and Cultural Affairs, Ref.: ECA/PE/C/PY-05-24, Program Management, ECA/EX/PM, Room 534, 301 4th Street, SW., Washington, DC 20547.

Along with the Project Title, all applicants must enter the above Reference Number in Box 11 on the SF-424 contained in the mandatory Proposal Submission Instructions (PSI) of the solicitation document.

IV.3g. Intergovernmental Review of Applications: Executive Order 12372 does not apply to this program.

With the submission of the proposal package, please also submit the Executive Summary, Proposal Narrative, and Budget sections of the proposal as e-mail attachments in Microsoft Word and/or Excel to the program officer at LantzCS@state.gov. The Bureau will provide these files electronically to the Public Affairs Sections at the relevant U.S. embassies for their review.

V. Application Review Information

V.1. Review Process

The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for grants resides with the Bureau's Grants Officer.

Review Criteria

Technically eligible applications will be competitively reviewed according to the criteria stated below. These criteria are not rank ordered and all carry equal weight in the proposal evaluation:

1. Quality of the program idea: Proposals should exhibit originality, substance, precision, and relevance to the Bureau's mission. Proposals should display an understanding of the goals of the program. Exchange activities should ensure efficient use of program resources. Proposals will demonstrate a commitment to excellence and creativity in the implementation and management of the program. Proposed projects should receive positive assessments by the U.S. Department of State's geographic area desk and overseas officers of program need, potential impact, and significance in the partner countries.

2. Program planning: Objectives should be reasonable, feasible, flexible, and respond to the priorities outlined in this announcement. Proposals should clearly demonstrate how the institution will meet the program's objectives and plan. A detailed agenda and relevant work plan will demonstrate substantive undertakings and logistical capacity. The agenda and plan should adhere to the program overview and guidelines described above and will show the timetable by which major tasks will be completed. The substance of workshops and exchange activities should be described in detail and included as an attachment. The responsibilities of partner organizations will be clearly delineated.

3. Support of diversity: Proposals should demonstrate substantive support of the Bureau's policy on diversity. Achievable and relevant features should be cited in both program administration (selection of participants, program venue and program evaluation) and program content (orientation and wrap-up sessions, program meetings, resource materials and follow-up activities).

4. Institutional capacity: Applicants should demonstrate knowledge of each country's educational environment and the capacity to recruit, select, and orient U.S. and foreign exchange students. Proposals should include (1) the institution's mission and date of establishment; (2) detailed information about proposed in-country partners; (3) an outline of prior awards for work in the region; and (4) descriptions of experienced personnel who will implement the program. Institutional resources should be adequate and appropriate to achieve the project's goals. Proposals should demonstrate an institutional record of successful exchange programs, including responsible fiscal management and full compliance with all reporting requirements for past Bureau grants as determined by Bureau Grants Staff. The Bureau will consider the past performance of prior recipients and the demonstrated potential of new applicants.

5. Project evaluation: Proposals should include a plan and methodology to evaluate the project's successes and challenges, both as the activities unfold and at the end of the program. The evaluation plan should show a clear link between program objectives and expected outcomes, and should include a description of performance indicators and measurement tools. Applicants should provide draft questionnaires or other techniques for use in surveying participants to facilitate the demonstration of results. Applicants will indicate their willingness to submit periodic progress reports in accordance with the program office's expectations.

6. Follow-on and sustainability: Proposals should provide a strategy for the use of alumni to work together to further the impact of the program both within the context of the grant (with Bureau support) and after its completion (without the Bureau's financial support).

7. Multiplier effect: The program design should include efforts to expand the impact of the exchanges beyond just those who travel. Proposed programs should strengthen long-term mutual understanding, including maximum sharing of information and the establishment of long-term institutional and individual linkages.

8. Cost-effectiveness/Cost sharing: The overhead and administrative components of the proposal, including salaries and honoraria, should be kept as low as possible. While lower “per participant” figures will be more competitive, the Bureau expects all figures to be realistic. All other items should be necessary and appropriate. Proposals should maximize cost sharing through other private sector support as well as institutional direct funding contributions.

VI. Award Administration Information

VI.1a. Award Notices

Final awards cannot be made until funds have been appropriated by Congress, allocated and committed through internal Bureau procedures. Successful applicants will receive an Assistance Award Document (AAD) from the Bureau's Grants Office. The AAD and the original grant proposal with subsequent modifications (if applicable) shall be the only binding authorizing document between the recipient and the U.S. Government. The AAD will be signed by an authorized Grants Officer, and mailed to the recipient's responsible officer identified in the application.

Unsuccessful applicants will receive notification of the results of the application review from the ECA program office coordinating this competition.

VI.2 Administrative and National Policy Requirements

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments”.

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations.

Please reference the following Web sites for additional information: http://www.whitehouse.gov/omb/grants and http://exchanges.state.gov/education/grantsdiv/terms.htm#articleI.

VI.3. Reporting Requirements

You must provide ECA with a hard copy original plus one copy of the following reports:

(1) A final program and financial report no more than 90 days after the expiration of the award;

(2) Interim reports, as required in the Bureau grant agreement.

Grantees will be required to provide reports analyzing their evaluation findings to the Bureau in their regular program reports. (Please refer to IV. Application and Submission Instructions (IV.3.d.3) above for Program Monitoring and Evaluation information.

All data collected, including survey responses and contact information, must be maintained for a minimum of three years and provided to the Bureau upon request.

All reports must be sent to the ECA Grants Officer and ECA Program Officer listed in the final assistance award document.

Program Data Requirements: Organizations awarded grants will be required to maintain specific data on program participants and activities in an electronically accessible database format that can be shared with the Bureau as required. As a minimum, the data must include the following:

(1) Name, address, contact information and biographic sketch of all persons who travel internationally on funds provided by the grant or who benefit from the grant funding but do not travel.

(2) Itineraries of international and domestic travel, providing dates of travel and cities in which any exchange experiences take place. The ECA Program Officer must receive final schedules for in-country and U.S. activities at least three working days prior to the official opening of the activity.

VII. Agency Contacts

For questions about this announcement, contact: Carolyn Lantz, Program Officer, Youth Programs Division, ECA/PE/C/PY, Room 568, U.S. Department of State, SA-44, 301 4th Street, SW., Washington, DC 20547, (202) 203-7505, fax (202) 203-7529, e-mail LantzCS@state.gov.

All correspondence with the Bureau concerning this RFGP should reference the above title and number ECA/PE/C/PY-05-24.

Please read the complete Federal Register announcement before sending inquiries or submitting proposals. Once the RFGP deadline has passed, Bureau staff may not discuss this competition with applicants until the proposal review process has been completed.

VIII. Other Information

Notice: The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: January 19, 2005.
C. Miller Crouch,
Principal Deputy Assistant Secretary, Bureau of Educational and Cultural Affairs, Department of State.

[FR Doc. 05-1527 Filed 1-26-05; 8:45 am]

BILLING CODE 4710-05-P